DEPARTMENT OF THE INTERIOR

Office of Surface Mining Reclamation and Enforcement

Information Quality Guidelines Pursuant to Section 515 of the Treasury and General Government Appropriations Act for Fiscal Year 2001

AGENCY: Office of Surface Mining Reclamation and Enforcement, Interior.

ACTION: Request for Comments on Proposed Guidelines.

SUMMARY: A notice published by the Office of Management and Budget (OMB) in the Federal Register directed Federal agencies to issue and implement guidelines to ensure and maximize the quality, objectivity, utility, and integrity of Government information disseminated to the public. We, the Office of Surface Mining Reclamation and Enforcement (OSM), are issuing these proposed Information Quality Guidelines in order to comply with the OMB requirement.

DATES: To ensure consideration of any comments you may have on the proposed guidelines, your comments must be received on or before August 21, 2002.

ADDRESSES: You may mail or hand carry comments to the Office of Surface Mining Reclamation and Enforcement, Administrative Record, Room 101, 1951 Constitution Avenue, NW., Washington, DC 20240. You may also e-mail comments to osmrules@osmre.gov.

FOR FURTHER INFORMATION CONTACT: Mr. Donald Griffith, Deputy Chief Information Officer, Office of Surface Mining Reclamation and Enforcement, on 202-208-2916, or via e-mail at DGriffit@osmre.gov.

SUPPLEMENTARY INFORMATION:

I. Background

A notice published by OMB in the Federal Register, dated January 3, 2002 (67 FR 369), and reissued February 22, 2002 (67 FR 8451), directed Federal agencies to issue and implement guidelines to ensure and maximize the quality, objectivity, utility, and integrity of Government information disseminated to the public. On May 24, 2002, the Department of the Interior published a Federal Register notice providing the web site where Departmental Information Quality Guidelines may be reviewed, and directing its offices and bureaus to publish by July 1, 2002, a notice of availability of their own Guidelines in the Federal Register for public comment. We are issuing these proposed Information Quality Guidelines in order to comply with this direction.

OSM, which includes Headquarters, three Regional Offices, and ten Field Offices, disseminates a wide variety of information to the public regarding the nation's surface coal mining and reclamation activities on Federal, tribal or other lands within states which may include state or privately-owned lands. The disseminated information includes organizational and management information, programs and services products, research and statistical reports, policy and regulatory information, and general reference material. We will evaluate and identify the types of information that we disseminate that will be subject to these guidelines, once finalized.

II. Information Quality Standards

To the greatest extent practicable and appropriate, information we disseminate is internally reviewed for quality—including objectivity, utility, and integrity—before such information is disseminated.

1. Information we disseminate to the public is normally subject to one or more levels of internal staff, or supervisory review for quality before we disseminate the information.

2. The number of levels of internal quality review applied in a particular case depends on the nature, scope, and purpose of the information to be disseminated. For example, routine reports that may be prepared by staff about the agency's activities or operations may be subject to one or two levels of staff or supervisory review for basic accuracy and completeness before such reports are released to the general public. Additional levels of internal review, supplementation, clarification, or approval by our management may be appropriate, however, to the extent such a report may be intended as the basis for more complicated budgeting decisions or legislative reporting purposes (e.g., to satisfy a need for greater statistical detail or explanation).

We have adopted the information quality definitions published by OMB. They are set forth in IV. below.

III. Information Quality Procedures

While we may vary in our implementation approaches, the basic guidance published by OMB on January 3, 2002, re-issued February 22, 2002, and adopted by the Department in the Federal Register, dated May 24, 2002, is included in our policy and will apply to our dissemination of information.

The OMB guidelines mandate that, after October 2, 2002, affected persons may seek and obtain, where appropriate, correction of disseminated information that does not comply with the OMB or Department guidelines. As a responsible bureau, we will by that date provide procedures to review and correct disseminated information and will establish a system for tracking and responding to complaints in accordance with this direction. As a part of this process, we will provide on our Web site (http://www.osmre.gov) a means for affected persons to challenge the quality of disseminated information. We will also provide addresses of appropriate officials to contact through the mail to challenge the quality of disseminated information.

If you want to challenge the quality of our disseminated information, please provide the following information: the name and address of the person filing the complaint; specific reference to the information being challenged; a statement of why the complainant believes the information fails to satisfy the standards in the OSM or OMB guidelines; and how the complainant is affected by the challenged information. The complainant may include suggestions for correcting the challenged information, but that is not mandatory.

Once we receive a complaint, we will have 5 business days to notify the complainant of receipt. We will also notify the program area that disseminated the challenged information of the receipt of the complaint. We will have 45 business days from receipt to evaluate whether the complaint is accurate based on an analysis of all information available to the appropriate program or office. If, within the 45 business-day period, we determine that the complaint is without merit, we will notify the complainant. If, within the 45 business-day period, we determine that the complaint has merit, we will notify the complainant and the appropriate program or office. We will take reasonable steps to withdraw the information from the public domain and from any decision-making process in which it is being used. If we decide to correct the challenged information, we will notify the complainant of our intent and make the correction. We will determine the schedule and procedure for correcting challenged information, but will not disseminate the challenged information in any form until we make the appropriate corrections. We will provide the complainant with a copy of the corrected information once completed.

If a complainant does not receive the notices within the time frame described above, or wishes to appeal a determination of merit, or wishes to appeal the proposed correction of information, the complainant may appeal to our Chief Information Officer (CIO). The CIO may intervene on behalf of the complainant to maintain the complaint-resolution process. If the CIO determines that an appeal of a determination of merit or the proposed correction of information has merit, our appropriate program office will be notified. We will withdraw the challenged information from the public domain, to the extent practicable, and will not use the information in any of our decision-making process until we correct it.

If we receive a second complaint before we issue the 45 business-day notice for an overlapping complaint under review, we will treat it with simultaneous consideration. We will notify the second complainant within 5 business days that an analysis is in progress and will provide its status. We will combine the earlier and later complaints and issue a combined 45 business-day notice.

If we receive the second complaint on the same subject after we have issued a 45 business-day notice, we will conduct a new and separate review.

We conduct a substantial amount of business following the public review and comment on proposed documents prior to their issuance in final form. These activities include rulemakings and analyses conducted under the Surface Mining Control and Reclamation Act of 1977 (SMCRA), the National Environmental Policy Act (NEPA) and other authorities. For the purposes of the Information Quality Guidelines covered by this notice, we will treat requests we receive for corrections of information in draft documents as comments on the draft documents. Response to comments will be included in the final document. When we receive requests for corrections of information in a final document, we will first determine whether the request pertains to an issue discussed in the draft document upon which the requester could have commented. If we determine that the requester had the opportunity to comment on the issue at the draft stage and failed to do so, we may consider the request to have no merit. If information that did not appear in the draft document is the subject of a request for correction, we will consider that request. If we determine that the information does not comply with OMB or our guidelines, such that the non-compliance with the guidelines presents significant new circumstances or information relevant to environmental concerns and bearing on the proposed action or its impacts, OSM will use existing mechanisms to remedy the situation, such as reproposing a rule or supplementing published analysis.

We will submit a report for each fiscal year to the Department of the Interior's Office of the Chief Information Officer (OCIO) not later than November 30 of each year. The report will identify the number, nature, and resolution of complaints received. the OCIO staff will consolidate all bureau reports into a Departmental annual report and submit to the Director of OMB no later than January 1, annually.

IV. Definitions

1. Quality is an encompassing term that includes utility, objectivity, and integrity. Therefore, the guidelines sometimes refer to these four statutory terms collectively as quality.

2. Utility refers to the usefulness of the information to its intended users, including the public. In assessing the usefulness of information that we disseminate to the public, we need to reconsider the uses of the information not only from our perspective, but also from the perspective of the public. As a result, when transparency of information is relevant for assessing the information's usefulness from the public's perspective, we will take care to address that transparency in our review of the information.

3. Objectivity involves two distinct elements: presentations and substance.

(a) Objectivity includes whether we disseminate information in an accurate, clear, complete, and unbiased manner. This involves whether the information is presented within a proper context. Sometimes, in disseminating certain types of information to the public, other information must also be disseminated in order to ensure an accurate, clear, complete, and unbiased presentation. Also, we will identify the sources of the disseminated information (to the extent possible, consistent with confidentiality protections) and include it in a specific financial, or statistical context so that the public can assess for itself whether there may be some reason to question the objectivity of the sources. Where appropriate, we will identify transparent documentation and error sources affecting data quality.

(b) In addition, objectivity involves a focus on ensuring accurate, reliable, and unbiased information. In a scientific financial, or statistical context, we will analyze the original and supporting data and develop our results using sound statistical and research methods.

(1) If data and analytic results have been subjected to formal, independent, external peer review, we will generally presume that the information is of acceptable objectivity. However, a complainant may rebut this presumption based on a persuasive showing in a particular instance. If we use peer review to help satisfy the objectivity standard, the review process employed shall meet the general criteria for competent and credible peer review recommended by OMB's Office of Information and Regulatory Affairs (OIRA) to the President's Management Council (9/20/01) (http://www.whitehouse.gov/omb/inforeg/oira_review-process.html). OIRA recommends “that (a) peer reviewers be selected primarily on the basis of necessary technical expertise, (b) peer reviewers be expected to disclose to agencies prior technical/policy positions they may have taken on the issues at hand, (c) peer reviewers be expected to disclose to agencies their sources of personal and institutional funding (private or public sector), and (d) peer reviews be conducted in an open and rigorous manner.”

(2) Since we are responsible for disseminating influential scientific, financial, and statistical information, we will include a high degree of transparency about data and methods to facilitate the reproducibility (the ability to reproduce the results) of such information by qualified third parties.

With regard to original and supporting related data, we will not require that all disseminated data be subjected to a reproducibility requirement. We may identify, in consultation with the relevant scientific and technical communities, those particular types of data that can practically be subjected to a reproducibility requirement, given ethical, feasibility, or confidentiality constraints. It is understood that reproducibility of data is an indication of transparency about research design and methods and thus a replication exercise (i.e. a new experiment, test of sample) that will not be required prior to each release of information.

With regard to analytical results, we will generally require sufficient transparency about data and methods that a qualified member of the public could undertake an independent reanalysis. These transparency standards apply to our analysis of data from a single study as well as to analyses that combine information from multiple studies.

Making the data and methods publicly available will assist us in determining whether analytic results are reproducible. However, the objectivity standard does not override other compelling interests such as privacy, trade secrets, intellectual property, and other confidentiality protections.

In situations where public access to data and methods will not occur due to other compelling interests, we will apply especially rigorous checks to analytical results and documents what checks were undertaken. We will, however, disclose the specific data sources used, and the specific quantitative methods and assumptions we employed. We will define type of checks, and the level of detail for documentation, given the nature and complexity of the issues.

Since we are responsible for dissemination of some types of health and public safety information, we will interpret the reproducibility and peer-review standards in a manner appropriate to assuring the timely flow of vital information from us to appropriate government agencies and the public. We may temporarily waive information from us to appropriate government agencies and the public. We may temporarily waive information quality standards under urgent situations (e.g., imminent threats to public health or homeland security) in accordance with the latitude that may be specified in the Department guidelines.

4. Integrity refers to the security of information—protection of the information from unauthorized access or revision, to ensure that the information is not compromised through corruption or falsification.

5. Information means any communication or representation of knowledge such as facts or data, in any medium or form, including textual, numerical, graphic, cartographic, narrative, or audiovisual forms. This definition includes information that an agency disseminates from a web page, but does not include the provision of hyperlinks to information that others disseminate. This definition does not include opinions, where our presentation makes it clear that what is being offered is someone's opinion rather than fact or our views.

6. Government information means information created, collected, processed, disseminated, or disposed of by or for the Federal Government.

7. Information dissemination product means any books, paper, map, machine-readable material, audiovisual production, or other documentary material, regardless of physical form or characteristic, an agency disseminates to the public. This definition includes any electronic document, CD-ROM, or web page.

8. Dissemination means agency initiated or sponsored distribution of information to the public [see 5 CFR 1320.3(d) for definition of “conduct or sponsor”]. Dissemination does not include distribution limited to government employees or agency contractors or grantees; intra- or inter-agency use or sharing of government information; and responses to requests for agency records under the Freedom of Information Act, the Privacy Act, the Federal Advisory Committee Act or other similar law. This definition also does not include distribution limited to correspondence with individuals or persons, press releases, archival records, public filings, subpoenas or adjudicative processes.

9. Influential, when used in the phrase “influential scientific, financial, or statistical information,” means that we can reasonably determine that dissemination of the information will have or does have a clear and substantial impact on important public policies or important private sector decisions. We are authorized to define “influential” in ways appropriate for us, given the nature and multiplicity of issues for which we are responsible.

10. Reproducible means that the information is capable of being substantially reproduced, subject to an acceptable degree of impression. For information judged to have more (less) important impacts, the degree of imprecision that is tolerated is reduced (increased). If we apply the reproducibility test to specific types of original or supporting data, the associated guidelines will provide relevant definitions of reproducibility (e.g., standards for replication of laboratory data). With respect to analytic results, capable of being substantially reproduced means that independent analysis of the original or supporting data using identical methods would demonstrate whether similar analytic results, subject to an acceptable degree of imprecision or error, could be generated.

V. Legal Effect

These guidelines are intended only to improve the internal management of the Office of Surface Mining Reclamation and Enforcement relating to information quality. Nothing in these guidelines is intended to create any right or benefit, substantive or procedural, enforceable at law or equity by a party against the United States, its agencies, its offices, or any other person.

Dated: June 25, 2002.
Jeffrey D. Jarrett,
Director.

[FR Doc. 02-18459 Filed 7-19-02; 8:45 am]

BILLING CODE 4310-05-M